ENVIRONMENTAL PROTECTION AGENCY

40 CFR Part 52

[EPA-R02-OAR-2017-0013; FRL 9971-28-Region 2]

Approval and Revision of Air Quality Implementation Plans; State of New York; Regional Haze State and Federal Implementation Plans

Correction

In rule document 2017-25945 beginning on page 57126 in the issue of Monday December 4, 2017, make the following correction:

§ 52.1670 [Corrected]

In § 52.1670, on page 57130, in the table, beneath the column titled “EPA approval date”, “11/4/17” should read “12/4/17”.

[FR Doc. C1-2017-25945 Filed 12-29-17; 8:45 am]

BILLING CODE 1301-00-D